DEPARTMENT OF TRANSPORTATION

Office of the Secretary

[Docket No. DOT-OST-2025-0369]

National Freight Strategic Plan 2025 Update: Request for Information

AGENCY: Office of the Secretary (OST), Department of Transportation (DOT).

ACTION: Request for information (RFI).

SUMMARY: The safe and efficient movement of freight is vital to the Nation's economic growth and to the creation of well-paying jobs for millions of Americans. In 2020, the U.S. Department of Transportation (DOT) published a National Freight Strategic Plan (NFSP). 49 U.S.C. 70102 requires the DOT to update the NFSP based on 17 components to address multimodal freight transportation. DOT seeks information from the public, including stakeholders (e.g., State, metropolitan planning organization, and local agencies, port authorities, private owners and operators, industry trade groups, shippers, and beneficial cargo owners) to aid development of the updated NFSP.

DATES: Comments must be received on or before August 14, 2025. DOT will consider comments filed after this date to the extent practicable.

ADDRESSES: You may submit comments identified by DOT Docket Number DOT-OST-2025-0369 by any of the following methods:

• Electronic Submission: Go to http://www.regulations.gov. Search by using the docket number (provided above). Follow the instructions for submitting comments on the electronic docket site.

• Mail: Docket Management Facility; U.S. Department of Transportation, 1200 New Jersey Avenue SE, Room PL-401, Washington, DC 20590-0001.

• Hand Delivery: Room PL-401 of the U.S. Department of Transportation, 1200 New Jersey Avenue SE, Washington, DC, between 9 a.m. and 5 p.m., Monday through Friday, except Federal Holidays.

Instructions: All submissions must include the agency name and docket number.

Note: All comments received, including any personal information, will be posted without change to the docket and are accessible via http://www.regulations.gov. Input submitted online via www.regulations.gov is not posted to the site immediately. It may take several business days before your submission is posted.

FOR FURTHER INFORMATION CONTACT: Paul Baumer, Deputy Director for Infrastructure Development, Office of Multimodal Freight Infrastructure and Policy, at 202-366-1092 and Paul.Baumer@dot.gov.

SUPPLEMENTARY INFORMATION:

I. Background

The Nation's freight transportation system is a complex network of almost seven million miles of highways, railways, navigable waterways, and pipelines. The components of this network are linked through hundreds of seaports, airports, and intermodal facilities. This system accommodates the movement of raw materials and finished products from the entire spectrum of the agricultural, manufacturing, energy, retail, and other sectors of the United States economy. The Moving Ahead for Progress in the 21st Century Act- (Pub. L. 112-141(2012)) established the requirement for DOT to develop an NFSP. Section 8001 of the Fixing America's Surface Transportation (FAST) Act (Pub. L. 114-94 (2015)) amended the requirement that DOT develop an NFSP, expanding the focus to include a multimodal approach.

Subsequently, section 21102 of IIJA (Pub. L. 117-58) (2021)) further amended the NFSP requirements to include components addressing environmental impacts, resiliency, economic growth, disadvantaged communities, decarbonizing freight movement, and impacts of e-commerce. See 49 U.S.C. 70102. After completing the NFSP, DOT is required to update it every five years. Id. § 70102(c).

In September 2020, DOT issued the NFSP.¹ The 2020 NFSP defined DOT's vision and goals for the national multimodal freight system; assessed the conditions and performance of the freight system and barriers to freight system performance; and defined strategies to achieve its vision and goals. The Plan was developed through a multi-agency effort involving extensive consultation with freight stakeholders in both the public and private sectors. DOT has used this Plan to guide national freight policy, programs, initiatives, and investments; to inform State freight plans; to identify freight data and research needs; and provide a framework for increased cross-sector, multijurisdictional, and multimodal coordination and partnerships.

¹ Available at https://www.transportation.gov/freight/NFSP (last updated Sept. 4, 2020).

As amended by the IIJA, 49 U.S.C. 70102(b) requires DOT to develop an updated NFSP that includes:

(1) an assessment of the condition and performance of the National Multimodal Freight Network;

(2) forecasts of freight volumes for the succeeding 5-, 10-, and 20-year periods;

(3) an identification of major trade gateways and national freight corridors that connect major population centers, trade gateways, and other major freight generators;

(4) an identification of bottlenecks on the National Multimodal Freight Network that create significant freight congestion, based on a quantitative methodology developed by the Under Secretary, which shall include at a minimum—(a) information from the Freight Analysis Framework; and (b) to the maximum extent practicable, an estimate of the cost of addressing each bottleneck and any operational improvements that could be implemented;

(5) an assessment of statutory, regulatory, technological, institutional, financial, and other barriers to improved freight transportation performance, and a description of opportunities for overcoming those barriers;

(6) a process for addressing multistate projects and encouraging jurisdictions to collaborate;

(7) strategies to improve freight intermodal connectivity;

(8) an identification of corridors providing access to energy exploration, development, installation, or production areas;

(9) an identification of corridors providing access to major areas for manufacturing, agriculture, or natural resources;

(10) an identification of best practices for improving the performance of the National Multimodal Freight Network, including critical commerce corridors and rural and urban access to critical freight corridors;

(11) an identification of best practices to mitigate the impacts of freight movement on communities;

(12) best practices for reducing environmental impacts of freight movement;

(13) possible strategies to increase the resilience of the freight system;

(14) strategies to promote United States economic growth and international competitiveness;

(15) consideration of any potential unique impacts of the national freight system on rural and other underserved and historically disadvantaged communities;

(16) strategies for decarbonizing freight movement as appropriate; and

(17) consideration of the impacts of e-commerce on the national multimodal freight system.

In developing and updating the NFSP, DOT is required to provide notice and an opportunity for public comment, and well as to consult with State departments of transportation, metropolitan planning organizations, and other appropriate public and private transportation stakeholders. 49 U.S.C. 70102(d).

II. NFSP Considerations

Moving freight safely and efficiently is essential for America's economic growth and supports millions of well-paying jobs. The numbers tell the story: in 2023, our transportation system moved about 49 million tons of freight worth $4.1 billion every single day. About 16 million Americans—roughly 10 percent of all workers—had jobs in transportation or related industries. DOT estimates that freight tonnage will grow by 50 percent between 2020 and 2050, which will put significant pressure on our existing infrastructure.

Both rural and urban communities depend on freight moving safely and efficiently. Rural areas produce many of the raw materials that fuel our economy—agriculture, energy, natural resources, and other inputs to manufacturing. About two-thirds of all freight shipped by rail in the U.S. starts in rural areas. Urban areas create most of the demand for freight and rely on trucks, trains, ships, planes, and pipelines working together through intermodal connections to supply industry and deliver goods reliably. To get products to consumers safely and efficiently, freight supply chains have become increasingly complex. Shippers and cargo owners now depend on multiple transportation methods working together seamlessly.

More than ever, we need to plan transportation and infrastructure investments—especially for freight—by looking at the big picture. This means considering all transportation modes and both public and private sector needs to maintain America's competitive edge globally. DOT recognizes the importance of engaging with the public and private industry to develop a clear and inclusive national vision for freight transportation. Through State Freight Plans, all 50 States and the District of Columbia have considered the importance and impacts of freight movement to their local and regional economy and have developed infrastructure investment plans to improve freight flows across their States. See 49 U.S.C. 70202. As daily users of the system, private sector perspectives are vital inputs for understanding operational challenges along the freight system. DOT seeks information directly from the public and stakeholders to inform development of this national freight strategy.

III. Public Comment

DOT seeks comments and relevant information on any of the 17 statutorily defined plan components (as noted above). In addition, DOT requests comments and data in response to the following questions:

1. The 2020 NFSP outlined three overarching goals and accompanying strategies to guide national freight policy:

• Improve the Safety, Security, and Resilience of the national freight system;

• Modernize Infrastructure and operations to grow the economy, to increase competitiveness, and to improve quality of life; and

• Support the Development of Data, Technology, and Workforce Capabilities that improve freight system performance.

Do the three overarching goals of the 2020 NFSP still reflect the most urgent national priorities for freight policy in 2025? If not, what changes or additions would better reflect today's needs? How should any existing goals or strategies be reframed given changes in the freight system since 2020?

2. How has the 2020 NFSP influenced freight planning, policies, or investments at the Federal, State, local, or private sector levels? What changes would make the 2025 NFSP more impactful or useful in guiding future freight-related actions?

3. What metrics—across safety, efficiency, resilience, or infrastructure condition—should DOT use to evaluate multimodal freight system performance? How can performance measurement inform decision-making and project prioritization across all levels of government?

4. How can investment in freight transportation infrastructure best support industry and economic development? How could the NFSP help support public and private-sector investment in the freight system?

5. What emerging operational or technological advances are likely to reshape freight movement over the next five years? What actions should public agencies take to enable or accelerate their adoption? How can DOT support greater private-sector investment, and what investment roles are best suited for public vs. private actors?

6. What are the most significant regulatory, technological, procedural, institutional, or statutory barriers to freight system performance—especially at intermodal connectors and freight origin and destination points? How could the NFSP help identify or address these root causes?

7. What strategies should DOT consider to strengthen the freight system's resilience to natural disasters, economic shocks, or other disruptions? How should resilience be defined or measured, and what roles should Federal, State, local, and private actors play?

8. What unique impacts do freight movement and operations impose on rural and underserved communities? What strategies should DOT consider to mitigate any disproportionate negative impacts felt by these communities?

9. How can DOT encourage multi-State or multi-jurisdictional coordination on freight planning, operations, and investments? In what role(s) would DOT be most effective in creating, sustaining, and optimizing the value of such cross-jurisdictional groups?

10. How will an officially designated National Multimodal Freight Network help or influence the way public agencies plan and invest in the freight system? See 49 U.S.C. 70103. What are the most logical use cases for this network? How can the NFSP best support public and private supply chain stakeholders to understand trends and challenges better on this network?

DOT invites comments by all those interested in the NFSP. Comments may be submitted and viewed at Docket Number DOT-OST-2025-0369. Comments must be received on or before August 14, 2025 to receive full consideration by DOT with respect to the final NFSP. After the comment period closes, comments will continue to be available for viewing by the public.

DOT's Office of Multimodal Freight Infrastructure and Policy will be supplementing this RFI with other stakeholder engagement efforts, including a nationwide webinar and stakeholder meetings.

Issue Date: July 10, 2025.
Cathy Gautreaux,
Deputy Assistant Secretary for Multimodal Freight Infrastructure and Policy.

[FR Doc. 2025-13219 Filed 7-14-25; 8:45 am]

BILLING CODE 4910-9X-P